DEPARTMENT OF HEALTH AND HUMAN SERVICES

Health Resources and Services Administration

Graduate Medical Education Advisory Council; Meeting

In accordance with section 10(a)(2) of the Federal Advisory Committee Act (Pub. L. 92-463), announcement is made of the following National Advisory body scheduled to meet during the month of April 2000.

Name: Council on Graduate Medical Education (COGME).

Date and Time: April 5, 2000; 8:30 a.m.—5:30 p.m.; April 6, 2000; 8:30 a.m.—12 p.m.

Place: The Latham Hotel, Georgetown-Presidential Ballroom, 3000 M Street, N.W., Washington, D.C. 20007.

The meeting is open to the public.

Agenda: The agenda will include: Welcome and opening comments from the Administrator, Health Resources and Services Administration, the Associate Administrator for Health Professions, and the Acting Executive Secretary of COGME; a presentation on the Minimum Requirements for Physicians Enrolled in US Post-Graduate Training Programs; a panel of speakers discussing the Role of Labor in Graduate Medical Education; a legislative update on Graduate Medical Education; a presentation on the History of COGME's 110:50/50 Ratio; and a discussion of COGME Resource Papers. The Council will hear the reports of its work groups on GME Financing, and Physician Workforce.

Anyone requiring information regarding the subject should contact Stanford M. Bastacky, D.M.D., M.H.S.A., Executive Secretary, Council on Graduate Medical Education, Division of Medicine, Bureau of Health Professions, Room 9A-27, Parklawn Building, 5600 Fishers Lane, Rockville, Maryland 20857, telephone (301) 443-6326.

Agenda items are subject to change as priorities dictate.

Dated: February 29, 2000.
Jane M. Harrison,
Director, Division of Policy Review and Coordination.

[FR Doc. 00-5420 Filed 3-6-00; 8:45 am]

BILLING CODE 4160-15-U